DEPARTMENT OF COMMERCE

Foreign-Trade Zones Board

[Order No. 1995]

Approval of Expansion of Subzone 78A Nissan North America, Inc.; Smyrna, Tennessee

Pursuant to its authority under the Foreign-Trade Zones Act of June 18, 1934, as amended (19 U.S.C. 81a-81u), the Foreign-Trade Zones Board (the Board) adopts the following Order:

Whereas, the Foreign-Trade Zones Act provides for “. . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board's regulations (15 CFR part 400) provide for the establishment of subzones for specific uses;

Whereas, the Metropolitan Government of Nashville and Davidson County, grantee of Foreign-Trade Zone 78, has made application to the Board to expand Subzone 78A on behalf of Nissan North America, Inc., located in Smyrna, Tennessee (FTZ Docket B-77-2015, docketed November 12, 2015);

Whereas, notice inviting public comment has been given in the Federal Register (80 FR 72412, November 19, 2015) and the application has been processed pursuant to the FTZ Act and the Board's regulations; and,

Whereas, the Board adopts the findings and recommendations of the examiner's memorandum, and finds that the requirements of the FTZ Act and the Board's regulations are satisfied;

Now, therefore, the Board hereby approves the expansion of Subzone 78A on behalf of Nissan North America, Inc., as described in the application and Federal Register notice, subject to the FTZ Act and the Board's regulations, including Section 400.13.

Signed at Washington, DC, this 22nd day of February 2016.
Paul Piquado,
Assistant Secretary of Commerce for Enforcement and Compliance, Alternate Chairman, Foreign-Trade Zones Board.

[FR Doc. 2016-06175 Filed 3-17-16; 8:45 am]

BILLING CODE 3510-DS-P